DEPARTMENT OF HEALTH AND HUMAN SERVICES

Office of the Secretary

Notice of Meeting: Secretary's Advisory Committee on Genetics, Health, and Society

Pursuant to Public Law 92-463, notice is hereby given of the fourth meeting of the Secretary's Advisory Committee on Genetics, Health, and Society (SACGHS), U.S. Public Health Service. The meeting will be held from 8:30 a.m. to 5 p.m. on June 14, 2004, and 8 a.m. to 3 p.m. on June 15, 2004, at the Marriott Hotel Bethesda at 5151 Pooks Hill Road, Bethesda, Maryland. The meeting will be webcast. The meeting will be open to the public with attendance limited to space available.

The first half of the first day will be devoted to an informational update on the status of genetic nondiscrimination legislation and presentation and discussion of an information gathering activity conducted by the Committee's education task force. In addition, the Committee will be reviewing a draft resolution on genetics education and training. The second half of the first day will consist of discussion and deliberation on a draft report on the issue of coverage and reimbursement for genetic technologies. The second day will be devoted to discussions around a draft resolution on the issue of direct-to-consumer marketing and consideration of a draft Vision Report. Time will be provided each day for public comment.

Under authority of 42 U.S.C. 217a, section 222 of the Public Health Service Act, as amended, the Department of Health and Human Services established SACGHS to serve as a public forum for deliberations on the broad range of human health and societal issues raised by the development and use of genetic technologies and, as warranted, to provide advice on these issues.

The draft meeting agenda and other information about SACGHS, including information about access to the webcast, will be available at the following Web site: http://www4.od.nih.gov/oba/sacghs.htm. Individuals who wish to provide public comment or who plan to attend the meeting and need special assistance, such as sign language interpretation or other reasonable accommodations, should notify the SACGHS Executive Secretary, Ms. Sarah Carr, by telephone at 301-496-9838 or e-mail at sc112c@nih.gov. The SACGHS office is located at 6705 Rockledge Drive, Suite 750, Bethesda, MD 20892.

Dated: April 29, 2004.
LaVerne Stringfield,
Director, Office of Federal Advisory Committee Policy.

[FR Doc. 04-10321 Filed 5-5-04; 8:45 am]

BILLING CODE 4140-01-M